DEPARTMENT OF THE INTERIOR

National Park Service

Notice of Availability of Record of Decision for the North Shore Road Environmental Impact Statement, Great Smoky Mountains National Park

AGENCY: National Park Service.

SUMMARY: Pursuant to the National Environmental Policy Act of 1969, 42 U.S.C. 4332(2)(C) and National Park Service (NPS) policy in Director's Order 12 (Conservation Planning, Environmental Impact Analysis, and Decision Making), the NPS in cooperation with the Federal Highway Administration announces the availability of the Record of Decision (ROD) for the North Shore Road Environmental Impact Statement (EIS) in the Great Smoky Mountains National Park (Park), North Carolina. The ROD was approved by the Southeast Regional Director on December 28, 2007. The NPS has selected the preferred alternative (Monetary Settlement Alternative) as described in the Final EIS to ensure that resources of the Park and the Appalachian National Scenic Trail (Trail) will be unimpaired for the enjoyment of future generations, and fulfill project goals and objectives including the protection of natural, cultural, and recreational resources.

The selected alternative and four other alternatives, including a No-Action Alternative, were analyzed in the Draft and Final EIS. The full range of foreseeable environmental consequences was assessed. The NPS believes the Monetary Settlement Alternative will best accomplish the goals of the Park and the Trail. NPS selected the Monetary Settlement because it protects the significant and diverse natural resources and ecosystems of the Park (forest communities, water resources, protected species, and soundscapes). It will avoid disturbance to the Park and allow the Park to protect resources from adverse effects of problematic geologic formations and acidic runoff. The Monetary Settlement will also protect the tangible (archaeological sites, historic structures, landscapes, cemeteries, and traditional cultural properties) and intangible (feelings of attachment, family life, myth, folklore, and ideology) aspects of cultural resources in the Park. The Monetary Settlement Alternative is consistent with NPS management of the Park within the study area as backcountry. The Monetary Settlement Alternative allows for the traditional recreational activities of hiking, camping, fishing, and horse use in this backcountry area of the Park. It maintains the existing balance of visitors and resource use in this backcountry area and preserves the associated peace and solitude currently available there.

The ROD includes a statement of the decision made, other alternatives considered, the basis for the decision, a finding of no impairment of Park resources and values, and an overview of public involvement in the decision-making process. This decision is the result of a public planning process that began in 2003. The official responsible for this decision is the NPS Regional Director, Southeast Region.

DATES: The ROD was approved by the Southeast Regional Director on December 28, 2007.

ADDRESSES: The ROD, Final EIS, Draft EIS, and other information are available for review or download on the Internet at http://www.northshoreroad.info.

Copies of the ROD will also be available for review at the following locations:

Pack Memorial Library, 67 Haywood Street, Asheville, North Carolina 28801; Marianna Black Library, 33 Fryemont Road, Bryson City, North Carolina 28713; Charlotte and Mecklenburg County Main Library, 310 North Tryon Street, Charlotte, North Carolina 28202; Qualla Boundary Public Library, 810 Acquoni Road, Cherokee, North Carolina 28719; Anna Porter Public Library, 207 Cherokee Orchard Road, Gatlinburg, Tennessee 37738; GSMNP Headquarters, 107 Park Headquarters Road, Gatlinburg, Tennessee 37738; Lawson-McGee Library, 500 West Church Avenue, Knoxville, Tennessee 37915; Cameron Village Regional Library, 410-200 Oberlin Road, Raleigh, North Carolina 27605; Graham County Public Library, 80 Knight Street, Robbinsville, North Carolina 28771.

FOR FURTHER INFORMATION CONTACT: North Shore Road EIS, Attention: Superintendent, Great Smoky Mountains National Park, 107 Park Headquarters Road, Gatlinburg, Tennessee 37738, Telephone: 865-436-1207 or Fax: 865-436-1220.

SUPPLEMENTARY INFORMATION: The authority for publishing this notice is 42 U.S.C. 4332(2)(C).

The responsible official for this EIS is Paul Anderson, Acting Regional Director, Southeast Region, National Park Service, 100 Alabama Street, SW., 1924 Building, Atlanta, Georgia 30303.

Dated: February 8, 2008.
Paul R. Anderson,
Acting Regional Director, Southeast Region.

[FR Doc. E8-7146 Filed 4-7-08; 8:45 am]

BILLING CODE 4310-8A-M